DEPARTMENT OF COMMERCE

International Trade Administration

[Application No. 92-13A001]

Export Trade Certificate of Review

ACTION: Notice of issuance of an amended Export Trade Certificate of Review to Aerospace Industries Association of America, Inc., Application No. 92-13A001.

SUMMARY: The U.S. Department of Commerce issued an amended Export Trade Certificate of Review to Aerospace Industries Association of America, Inc. (“AIA”) on September 26, 2016.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. The regulations implementing Title III are found at 15 CFR part 325 (2014). The U.S. Department of Commerce, International Trade Administration, Office of Trade and Economic Analysis (“OTEA”) is issuing this notice pursuant to 15 CFR 325.6(b), which requires the Secretary of Commerce to publish a summary of the issuance in the Federal Register. Under Section 305(a) of the Export Trading Company Act (15 U.S.C. 4012(b)(1)) and 15 CFR 325.11(a), any person aggrieved by the Secretary's determination may, within 30 days of the date of this notice, bring an action in any appropriate district court of the United States to set aside the determination on the ground that the determination is erroneous.

Description of Certified Conduct

AIA's Export Trade Certificate of Review has been amended to:

1. Add the following companies as new Members of the Certificate within the meaning of section 325.2(l) of the Regulations (15 CFR 325.2(l)):

• Accurus Aerospace Corporation, LLC; Irving, TX

• Aerion Corporation; Reno, NV

• Aerospace Exports Incorporated; Moreno, CA

• AirMap; Santa Monica, CA

• Apex International Management Company; Daytona Beach, FL

• Ascent Manufacturing Inc.; Elk Grove Village, IL

• Astronautics Corporation of America; Milwaukee, WI

• Astronics Corporation; East Aurora, NY

• Boston Consulting Group; Boston, MA

• C4 Associates, Inc.; Los Angeles, CA

• CAE USA; Tampa, FL (controlling entity CAE; St. Laurent, Quebec, Canada)

• Capgemini; New York, NY (controlling entity Capgemini, S.A.; Paris, France)

• CDI Corporation; Philadelphia, PA

• Cytec Industries, Inc.; Woodland Park, NJ (controlling entity Solvay SA; Brussels, Belgium)

• Facebook, Inc.; Menlo Park, CA

• FS Precision Tech, Co. LLC; Compton, CA

• FLIR Systems, Inc.; Wilsonville, OR

• Iron Mountain, Inc.; Boston, MA

• J Anthony Group, LLC; Fort Worth, TX

• Kratos Defense & Security Solutions, Inc.; San Diego, CA

• Lavi Systems, Inc.; Van Nuys, CA

• Leidos, Inc.; Reston, VA (controlling entity Leidos Holdings, Inc.; Reston, VA)

• LS Technologies, LLC; Fairfax, VA

• Momentum Aviation Group; Woodbridge, VA

• Pacific Design Technologies; Goleta, CA

• Park-Ohio Holdings Corp.; Cleveland, OH

• Primus Technologies Corporation; Williamsport, PA

• salesforce.com, inc.; San Francisco, CA

• Spacecraft Components Corporation; Las Vegas, NV

• Sunflower Systems; Arlington, VA

• The NORDAM Group, Inc.; Tulsa, OK

• Tip Technologies; Waukesha, WI

• TriMas Aerospace; Los Angeles, CA (controlling entity TriMas Corporation; Bloomfield Hills, MI)

• United Parcel Service of America, Inc.; Atlanta, GA

• Universal Protection Services; Santa Ana, CA (controlling entity Universal Services of America; Santa Ana, CA)

• Verify, Inc.; Irvine, CA

• Verizon Enterprise Solutions; Basking Ridge, NJ (controlling entity Verizon Communications, Inc., New York, NY)

• VogelHood; Washington, DC

• Xerox; Norwalk, CT

2. Delete the following companies as Members of AIA's Certificate:

• Aero Mechanical Industries, Inc.

• Align Aerospace, LLC

• Allfast Fastening Systems

• Alliant Techsystems, Inc.

• AlliedBarton Security Services, LLC

• AMT II Corporation

• ARINC Aerospace

• B/E Aerospace, Inc.

• BRS Aerospace

• CERTON Software, Inc.

• Chromalloy

• Colt Defense, LLC

• Deltek, Inc.

• DigitalGlobe, Inc.

• ENSCO, Inc.

• Erikson Air Crane Inc.

• ESI North America

• ESIS, Inc.

• Exelis, Inc.

• Galaxy Technologies

• General Atomics Aeronautical Systems, Inc.

• Groen Brothers Aviation Global, Inc.

• Guardsmark LLC

• Hi Shear Technology Corporation

• HITCO Carbon Composites, Inc.

• Hydra Electric Company

• IEC Electronics Corporation

• Kemet Electronics Corporation

• NobleTek

• Ontic Engineering and Manufacturing, Inc.

• Oracle USA, Inc.

• Pall Aeropower Corporation

• Parametric Technology Corporation

• Pinkerton Government Services, Inc.

• RAF Tabtronics LLC

• RTI International Metals, Inc.

• Sila Solutions Group

• Satair USA Inc.

• Science Applications International Corporation

• Space Exploration Technologies Corporation

• SRA International, Inc.

• TASC, Inc.

• Timken Aerospace Transmissions, LLC

3. Change in name or address for the following Members:

• AAR Manufacturing, Inc. of Wood Dale, IL, is now named AAR Corp.

• Aerojet, of Rancho Cordova, CA, is now named Aerojet Rocketdyne. The controlling entity is Aerojet Rocketdyne Holdings, Inc., Rancho Cordova, CA.

• AGC Aerospace Defense of Oklahoma City, OK, is now named AGC Aerospace & Defense. The controlling entity is Acorn Growth Companies, Oklahoma City, OK.

• Celestica Corporation of Toronto Canada is now named Celestica Inc.

• Infotech Enterprises America Inc., of East Hartford, CT, is now named Cyient, Inc. The controlling entity and AIA member is Cyient, Ltd. of Hyderabad, India

• Natel Engineering Co. Inc. of Chatsworth, CA is now named NEO Tech.

• Pacifica Engineering, Inc. of Mukiliteo, WA is now named MTorres America of Bothell, WA. The controlling entity is M.TORRES DISENOS INDUSTRIALES, SAU of Torres de Elorz (Navarra) Spain.

• Pinkerton Government Services Inc. of Springfield, VA is now Securitas Critical Infrastructure Services, Inc.

AIA's amendment of its Export Trade Certificate of Review results in the following membership list:

• 3M Company; St. Paul, MN

• AAR Corp.; Wood Dale, IL

• Accenture; Chicago, IL

• Accurus Aerospace Corporation, LLC; Irving, TX

• Acutec Precision Machining, Inc.; Saegertown, PA

• Aerion Corporation; Reno, NV

• Aero-Mark, LLC; Ontario, CA

• Aerojet Rocketdyne; Rancho Cordova, CA

• Aerospace Exports Incorporated; Moreno, CA

• AGC Aerospace & Defense; Oklahoma City, OK

• Aireon LLC; McLean, VA

• AirMap; Santa Monica, CA

• Alcoa Defense; Crystal City, VA

• Allied Telesis, Inc.; Bothell, WA

• American Pacific Corporation; Las Vegas, NV

• Analytical Graphics, Inc.; Exton, PA

• Apex International Management Company; Daytona Beach, FL

• Ascent Manufacturing Inc.; Elk Grove Village, IL

• Astronautics Corporation of America; Milwaukee, WI

• Astronics Corporation: East Aurora, NY

• Aurora Flight Sciences Corporation; Manassas, VA

• AUSCO, Inc.; Port Washington, NY

• Avascent; Washington, DC

• B&E Group, LLC; Southwick, MA

• BAE Systems, Inc.; Rockville, MD

• Ball Aerospace & Technologies Corp.; Boulder, CO

• Barnes Group Inc.; Bristol, CT

• Belcan Corporation; Cincinnati, OH

• Benchmark Electronics, Inc.; Angleton, TX

• Bombardier; Montreal, Canada

• Boston Consulting Group; Boston, MA

• C4 Associates, Inc.; Los Angeles, CA

• CADENAS PARTsolutions, LLC; Cincinnati, OH

• CAE USA; Tampa, FL

• Camcode Division of Horizons, Inc.; Cleveland, OH

• Capgemini; New York, NY

• Castle Metals; Oak Brook, IL

• CDI Corporation; Philadelphia, PA

• Celestica Inc.; Toronto, Canada

• Click Bond, Inc.; Carson City, NV

• Cobham; Arlington, VA

• Computer Sciences Corporation; Falls Church, VA

• CPI Aerostructures, Inc.; Edgewood, NY

• Crane Aerospace & Electronics; Lynnwood, W A

• Cubic Corporation, Inc.; San Diego, CA

• Curtiss-Wright Corporation; Parsippany, NJ

• Cyient Ltd.; East Hartford, CT

• Cytec Industries, Inc.; Woodland Park, NJ

• Deloitte Consulting LLP; New York, NY

• Denison Industries, Inc.; Denison, TX

• Ducommun Incorporated; Carson, CA

• DuPont Company; New Castle, DE

• Eaton Corporation; Cleveland, OH

• Elbit Systems of America, LLC; Fort Worth, TX

• Embraer Aircraft Holding Inc.; Fort Lauderdale, FL

• EPS Corporation; Tinton Falls, NJ

• Ernst & Young LLP; New York, NY

• Esterline Technologies; Bellevue, WA

• Exostar LLC; Herndon, VA

• Facebook, Inc.; Menlo Park, CA

• Flextronics International USA; San Jose, CA

• Flight Safety International Inc.; Flushing, NY

• FLIR Systems, Inc.; Wilsonville, OR

• Fluor Corporation; Irving, TX

• FS Precision Tech, Co. LLC; Compton, CA

• FTG Circuits, Inc.; Chatsworth, CA

• General Dynamics Corporation; Falls Church, VA

• General Electric Aviation; Cincinnati, OH

• GKN Aerospace North America; Irving, TX

• Harris Corporation; Melbourne, FL

• HCL America Inc.; Sunnyvale, CA

• HEICO Corporation; Hollywood, FL

• Hexcel Corporation; Stamford, CT

• Honeywell Aerospace; Phoenix, AZ

• HP Enterprise Services—Aerospace; Palo Alto, CA

• Huntington Ingalls Industries, Inc.; Newport News, VA

• IBM Corporation; Armonk, NY

• Iron Mountain, Inc.; Boston, MA

• J Anthony Group, LLC; Fort Worth, TX

• Jabil Defense & Aerospace Services LLC; St. Petersburg, FL

• Kaman Aerospace Corporation; Bloomfield, CT

• KPMG LLP; New York, NY

• Kratos Defense & Security Solutions, Inc.; San Diego, CA

• L-3 Communications Corporation; New York, NY

• LAI International, Inc.; Scottsdale, AZ

• Lavi Systems, Inc.; Van Nuys, CA

• Leidos, Inc.; Reston, VA

• LMI Aerospace Inc.; St. Charles, MO

• Lockheed Martin Corporation; Bethesda, MD

• Lord Corporation; Cary, NC

• LS Technologies, LLC; Fairfax, VA

• Momentum Aviation Group; Woodbridge, VA

• Marotta Controls, Inc.; Montville, NJ

• Meggitt-USA, Inc.; Simi, CA

• Micro-Coax, Inc.; Pottstown, PA

• Microsemi Corporation; Aliso Viejo, CA

• MOOG Inc.; East Aurora, NY

• MTorres America; Bothell, WA

• National Technical Systems, Inc.; Calabasas, CA

• NEO Tech.; Chatsworth, CA

• Northrop Grumman Corporation; Los Angeles, CA

• NYLOK, LLC; Macomb, MI

• O'Neil & Associates, Inc.; Miamisburg, OH

• Oxford Performance Materials; South Windsor, CT

• Pacific Design Technologies; Goleta, CA

• Park-Ohio Holdings Corp.; Cleveland, OH

• Parker Aerospace; Irvine, CA

• Plexus Corporation; Neenah, WI

• PPG Aerospace-Sierracin Corporation; Sylmar, CA

• Primus Technologies Corporation; Williamsport, PA

• PWC Aerospace & Defense Advisory Services; McLean, VA

• Raytheon Company; Waltham, MA

• Rhinestahl Corporation; Mason, OH

• Rix Industries; Benecia, CA

• Rockwell Collins; Cedar Rapids, IA

• Rolls-Royce North America Inc.; Reston, VA

• salesforce.com, inc.; San Francisco, CA

• SAP America, Inc.; Newtown Square, PA

• SCB Training, Inc.; Santa Fe Springs, CA

• Seal Science, Inc.; Irvine, CA

• Securitas Critical Infrastructure Services, Inc.; Springfield, VA

• Siemens PLM Software; Plano, TX

• Sierra Nevada Corporation, Space Systems; Littleton, CO

• SIFCO Industries, Inc.; Cleveland, OH

• SITA; Atlanta, GA

• Spacecraft Components Corporation; Las Vegas, NV

• Sparton Corporation; Schaumburg, IL

• Spirit AeroSystems; Wichita, KS

• Sunflower Systems; Arlington, VA

• Tech Manufacturing, LLC; Wright City, MO

• Textron Inc.; Providence, RI

• The Boeing Company; Chicago, IL

• The NORDAM Group, Inc.; Tulsa, OK

• The Padina Group, Inc.; Lancaster, PA

• Therm, Incorporated; Ithaca, NY

• Tip Technologies; Waukesha, WI

• TriMas Aerospace; Los Angeles, CA

• Triumph Group, Inc.; Wayne, PA

• United Parcel Service of America, Inc.; Atlanta, GA

• United Technologies Corporation; Hartford, CT

• Universal Protection Services; Santa Ana, CA

• Verify, Inc.; Irvine, CA

• Verizon Enterprise Solutions; Basking Ridge, NJ

• Virgin Galactic, LLC; Las Cruces, NM

• VogelHood; Washington, DC

• Wesco Aircraft Hardware Corporation; Valencia, CA

• Woodward, Inc.; Fort Collins, CO

• Xerox; Norwalk, CT

The effective date of the amendment is June 27, 2016, the date on which AIA's application to amend was deemed submitted.

Dated: October 5, 2016.
Joseph Flynn,
Director, Office of Trade and Economic Analysis, International Trade Administration.

[FR Doc. 2016-24564 Filed 10-11-16; 8:45 am]

BILLING CODE 3510-DR-P